POSTAL SERVICE

Notice of Meeting

AGENCY: Postal Service.

ACTION: Notice of meeting.

SUMMARY: The Postal Service will hold the first meeting of a Consensus Committee to develop recommendations for revision of USPS STD 4B, which governs the design of apartment house mailboxes. The committee will develop and adopt its recommendations through a consensus process. The committee will consist of persons who represent the interests affected by the proposed rule, including apartment house type mailbox manufacturers, mailbox distributors, mailbox installers and servicers, postal customers, and apartment house builders, owners and managers.

Meeting Dates: The first committee meeting is tentatively scheduled to begin at 9 a.m. on February 5th and continue into February 6th, 2003.

Meeting Place: Loews L'Enfant Plaza Hotel, 480 L'Enfant Plaza, SW., Washington, DC 20024..

FOR FURTHER INFORMATION CONTACT: Jeffery W. Lewis, (202) 268-4757.

SUPPLEMENTARY INFORMATION: Mail comments and all other communications regarding the committee to Jeffery W. Lewis, U.S. Postal Service Headquarters, 475 L'Enfant Plaza, SW., Room 7142, Washington, DC 20260. Committee documents will be available for public inspection and copying between 9 a.m. and 4 p.m. weekdays at the address above. Persons intending to attend the February 5th and 6th, 2003, meeting should send a fax to Monica J. Skinner at 202-268-5418 as soon as possible with the person's name and organizational affiliation, if any. For additional information regarding the USPS STD 7A Consensus Committee, see Federal Register Vol. 68, No. 3, p. 530 (January 6, 2003).

Stanley F. Mires,
Chief Counsel, Legislative.

[FR Doc. 03-1582 Filed 1-23-03; 8:45 am]

BILLING CODE 7710-12-P